DEPARTMENT OF COMMERCE

National Oceanic and Atmospheric Administration

RIN 0648-XX95

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. This EFP would allow four commercial fishing vessels to fish outside of the limited access scallop days-at-sea (DAS) program and the sea scallop access area regulations in support of research conducted by the Coonamessett Farm Foundation. The Assistant Regional Administrator has made a preliminary determination that the activities authorized under this EFP would be consistent with the goals and objectives of the Atlantic sea scallop Fishery Management Plan (FMP). However, further review and consultation may be necessary before a final determination is made to issue an EFP. Therefore, NMFS announces that the Assistant Regional Administrator proposes to recommend that an EFP be issued.

Regulations under the Magnuson-Stevens Fishery Conservation and Management Act require publication of this notification to provide interested parties the opportunity to comment on applications for proposed EFPs.

DATES: Comments must be received on or before August 17, 2010.

ADDRESSES: You may submit written comments by any of the following methods:

• Email: NERO.EFP@noaa.gov. Include in the subject line “Comments on CFarm 2010 RSA EFP.”

• Mail: Patricia A. Kurkul, Regional Administrator, NMFS, NE Regional Office, 55 Great Republic Drive, Gloucester, MA 01930. Mark the outside of the envelope “Comments on CFarm 2010 RSA EFP.”

• Fax: (978) 281-9135.

FOR FURTHER INFORMATION CONTACT: Christopher Biegel, Fisheries Management Specialist, 978-281-9112, or Don Frei, Fisheries Management Specialist, 978-281-9221.

SUPPLEMENTARY INFORMATION: The Coonamessett Farm Foundation has been favorably reviewed for a grant through the Atlantic sea scallop research set-aside (RSA) program. This grant would fund a project titled, “Testing of Modifications to the Cfarm Turtle Excluder Dredge for Bycatch Reduction.”

The primary objective of this testing is to test bycatch rates between the experimental dredge and a standard New Bedford scallop dredge. Four commercial scallop vessels would each conduct one 7-day trip for 28 total DAS. The vessels would deploy both dredges simultaneously in 12 30-minute tows per day, at an average speed of 4.5 knots. The researchers will collect catch data from each dredge and then immediately return the catch to the sea. The vessel is expected to catch scallops 24,000 lb (10,866 kg), winter flounder 1,200 lb (544 kg), yellowtail flounder 4,700 lb (2,131 kg), summer flounder 480 lb (544 kg), fourspot flounder 1,200 lb (544 kg), monkfish 1,200 lb (544 kg), barndoor skate 1,200 lb (544 kg), and little skate 1,200 lb (544 kg). No catch will be retained or landed. The trips will be taken in August 2010 through January 31, 2011, in Closed Area I and Closed Area II.

Coonamessett Farm submitted a complete EFP application on May 26, 2010, requesting exemption allowing four commercial fishing vessels to fish outside of the limited access Atlantic sea scallop days at sea (DAS) regulations found at 50 CFR 648.53(b) and Sea Scallop Access Area regulations found at 50 CFR 648.59. Any fishing activity conducted outside the scope of the exempted fishing activity would be prohibited.

Authority: 16 U.S.C. 1801 et seq.

Dated: July 28, 2010.
James P. Burgess,
Acting Director, Office of Sustainable Fisheries, National Marine Fisheries Service.

[FR Doc. 2010-18922 Filed 7-30-10; 8:45 am]

BILLING CODE 3510-22-S